DEPARTMENT OF COMMERCE

International Trade Administration

[A-552-801]

Notice of Affirmative Preliminary Determination of Critical Circumstances for Voluntary Section A Respondents: Certain Frozen Fish Fillets From the Socialist Republic of Vietnam; Correction.

AGENCY: Import Administration, International Trade Administration, Department of Commerce.

ACTION: Notice; Correction.

SUMMARY: The Department of Commerce published a notice in the Federal Register on May 28, 2003, concerning preliminary critical circumstances for Certain Frozen Fish Fillets from the Socialist Republic of Vietnam. The document contained incorrect information at Paragraph 2.

EFFECTIVE DATE: June 12, 2003.

FOR FURTHER INFORMATION CONTACT: Alex Villanueva or James C. Doyle, AD/CVD Enforcement Group III, Office 9, Import Administration, International Trade Administration, U.S. Department of Commerce, 14th Street and Constitution Avenue, NW., Washington, DC 20230; telephone: (202) 482-3208, or (202) 482-0159, respectively.

Critical Circumstances

In the Federal Register of May 28, 2003, in 68 FR 31681 in the second column, correct the first sentence of the second paragraph and add an additional sentence to read:

“On January 24, 2003, the Department, pursuant to section 733(e) of the Tariff Act of 1930, as amended (“the Act”), made preliminary determinations regarding critical circumstances for the four mandatory respondents: An Giang Fisheries Import Export Joint Stock Company (“Agifish”), Can Tho Agricultural and Animal Products Import Export Company (“CATACO”) Nam Viet Company Limited (“Nam Viet”), Vinh Hoan Company Limited (“Vinh Hoan”), as well as for the Vietnam-wide entity. We made affirmative preliminary critical circumstances determinations for Nam Viet and the Vietnam-wide entity only, and we did not find a sufficient basis to believe or suspect critical circumstances with respect to Agifish, CATACO, or Vinh Hoan.”

Dated: June 6, 2003.
Barbara Tillman,
Acting Deputy Assistant Secretary for Import Administration, Group III.

[FR Doc. 03-14886 Filed 6-11-03; 8:45 am]

BILLING CODE 3510-DS-S